DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before May 20, 2024.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on April 5, 2024.
Donald P. Burger,
Chief, General Approvals and Permits Branch.

Special Permits Data
Application No. | Applicant | Regulation(s) affected | Nature of the special permits thereof
21734-N | Liebherr-Werk Nenzing GmbH | 172.101(j) | To authorize the transportation in commerce of lithium batteries exceeding 35 kg by cargo-only aircraft. (mode 4).
21735-N | GlobalTech Environmental Corp | 173.185(f)(3) | To authorize the manufacture, mark, sale and use of UN specification packagings for the transportation in commerce of damaged, defective, or recalled lithium ion cells and batteries and lithium metal cells and batteries and these cells or batteries contained in equipment. (modes 1, 2, 3).
21736-N | Woodward Fst Inc | 178.705(d) | To authorize the transportation in commerce of metal intermediate bulk containers that are smaller than the minimum 450-liter size requirement. (mode 1).
21737-N | Remolques Tanques y Equipos, SA DE CV | 178.345-2 | To authorize the manufacture, mark, sale, and use of DOT 406, 407, and 412 specification cargo tanks using alternative materials of construction. (mode 1).
21739-N | G-Shang Metal Corporation | 173.301b(a) | To authorize the manufacture, mark, sale, and use of non-UN pressure receptacles composite cylinders based on the UN/ISO 11119-2 specification for the transportation in commerce of the hazardous materials authorized by this special permit. (modes 1, 2, 4, 5).
21741-N | Atlas Chemical Corp | 173.184, 173.56(b) | To authorize the transportation in commerce of the Division 1.4S articles specified herein as limited quantities. (modes 1, 2).
21742-N | Seattle Children's Hospital | 173.196 | To authorize the transportation in commerce of certain Category A infectious substances in alternative packaging. (mode 1).
21743-N | Post Warehouse Corp | 173.224(b) | To authorize the one-time transportation in commerce of N,N'-dinitrosopentamethylenetetramine (self-reactive material, Type C), in concentrations that exceed those authorized in 49 CFR 173.224(b) Self-Reactive Materials Table, for the purpose of disposal. (mode 1).
21745-N | Exosent Engineering, LLC | 173.315, 178.337 | To authorize the manufacture, mark, sale, and use of non-DOT specification cargo tanks that conform with all regulations applicable to a DOT Specification 331 except that they are manufactured to ASME Section XII and stamped with a “T” Stamp. (mode 1).

[FR Doc. 2024-08236 Filed 4-17-24; 8:45 am]

BILLING CODE P